DEPARTMENT OF LABOR

Employment and Training Administration

[TA-W-59,831]

GTI International Including On-Site Leased Workers of Woodward Hamilton, D/B/A Total HR Wixom, MI; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 8, 2006, applicable to workers of GTI International, Wixom, Michigan. The notice was published in the Federal Register on September 21, 2006 (71 FR 55218).

At the request of a company official, the Department reviewed the certification for workers of the subject firm. New information shows that leased workers of Woodward Hamilton, D/B/A Total HR were employed on-site at the Wixom, Michigan location of GTI International. Information also shows that all workers separated from employment at the subject firm had their wages reported under a separate unemployment insurance (UI) tax account for Woodward Hamilton, D/B/A Total HR.

Based on these findings, the Department is amending this certification to include leased workers of Woodward Hamilton, D/B/A Total HR, working on-site at GTI International, Wixom, Michigan.

The intent of the Department's certification is to include all workers employed at GTI International who were adversely affected by a shift in production to Mexico.

The amended notice applicable to TA-W-59,831 is hereby issued as follows:

“All workers of GTI International, including on-site leased workers of Woodward Hamilton, D/B/A Total HR, Wixom, Michigan, who became totally or partially separated from employment on or after July 13, 2005, through September 8, 2008, are eligible to apply for adjustment assistance under Section 223 of the Trade Act of 1974, and are also eligible to apply for alternative trade adjustment assistance under Section 246 of the Trade Act of 1974.”

Signed at Washington, DC this 14th day of November 2006.
Elliott S. Kushner,
Certifying Officer, Division of Trade Adjustment Assistance.

[FR Doc. E6-19715 Filed 11-21-06; 8:45 am]

BILLING CODE 4510-30-P